DEPARTMENT OF TRANSPORTATION

Federal Aviation Administration

[Summary Notice No. PE-2003-24]

Petitions for Exemption; Dispositions of Petitions Issued

AGENCY: Federal Aviation Administration (FAA), DOT.

ACTION: Notice of dispositions of prior petitions.

SUMMARY: Pursuant to FAA's rulemaking provisions governing the application, processing, and disposition of petitions for exemption, part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Denise Emrick (202) 267-5174, Sandy Buchanan-Sumter (202) 267-7271, or Timothy R. Adams (202) 267-8033, Office of Rulemaking (ARM-1), Federal Aviation Administration, 800 Independence Avenue, SW., Washington, DC 20591.

This notice is published pursuant to 14 CFR 11.85 and 11.91.

Issued in Washington, DC, on April 30, 2003.
Donald P. Byrne,
Assistant Chief Counsel for Regulations.

Dispositions of Petitions

Docket No.: FAA-2003-14904.

Petitioner: Euroatlantic.

Section of 14 CFR Affected: 14 CFR 129.28.

Description of Relief Sought/Disposition: To permit Euroatlantic to operate one Lockheed L-1011 aircraft after April 9, 2003, without meeting the requirements of § 129.28(c) until September 2003. Denial, 04/25/2003, Exemption No. 8032

Docket No.: FAA-2002-8255.

Petitioner: Stallion 51 Corporation.

Section of 14 CFR Affected: 14 CFR 91.319(a)(1) and (2).

Description of Relief Sought/Disposition: To permit Stallion 51 to operate its Aero L-39C Albatros aircraft in flight training operations for hire. Grant, 04/25/2003, Exemption No. 7538A

Docket No.: FAA-2002-14119.

Petitioner: United States Marine Corps.

Section of 14 CFR Affected: 14 CFR 91.209(a)(1) and (2).

Description of Relief Sought/Disposition: To permit the United States Marine Corps to conduct helicopter night-vision device flight training operations without aircraft position lights. Grant, 04/17/2003, Exemption No. 8028

Docket No.: FAA-2001-8787.

Petitioner: Flight Alaska, Inc.

Section of 14 CFR Affected: 14 CFR 135.143(c)(2).

Description of Relief Sought/Disposition: To permit Flight Alaska to operate certain aircraft under part 135 without a TSO-C112 (Mode S) transponder installed on those aircraft. Grant, 04/15/2003, Exemption No. 7505A

Docket No.: FAA-2000-8157.

Petitioner: Petroleum Helicopters, Inc.

Section of 14 CFR Affected: 14 CFR 135.152(a).

Description of Relief Sought/Disposition: To permit Petroleum Helicopters, Inc. to operate various helicopters under part 135 without an approved digital flight data recorder installed on each helicopter. Grant, 04/17/2003, Exemption No. 6713G

Docket No.: FAA-2001-9163.

Petitioner: Columbia Helicopters, Inc.

Section of 14 CFR Affected: 14 CFR 135.143(c)(2).

Description of Relief Sought/Disposition: To permit Columbia Helicopters, Inc. to operate certain aircraft under part 135 without a TSO-C112 (Mode S) transponder installed on those aircraft. Grant, 04/15/2003, Exemption No. 6905B

Docket No.: FAA-2001-8752.

Petitioner: American Trans Air.

Section of 14 CFR Affected: 14 CFR 121.433(c)(1)(iii), 121.441(a)(1) and (b)(1), and appendix F

Description of Relief Sought/Disposition: To permit American Trans Air to combine recurrent flight and ground training and proficiency checks for American Trans Air flight crewmembers in a single annual training and proficiency evaluation program. Grant, 4/15/2003, Exemption No. 6090D

Docket No.: FAA-2001-8937.

Petitioner: Era Aviation, Inc.

Section of 14 CFR Affected: 14 CFR 135.143 (c)(2).

Description of Relief Sought/Disposition: To permit Era Aviation, Inc. to operate certain aircraft under part 135 without a TSO-C112 (Mode S) transponder installed on those aircraft. Grant, 4/15/2003, Exemption No. 5718E

Docket No.: FAA-2001-8754.

Petitioner: Everts Air Fuel, Inc.

Section of 14 CFR Affected: 14 CFR 91.9(a).

Description of Relief Sought/Disposition: To permit Everts Air Fuel, Inc. to operate its McDonnell Douglas DC-6 aircraft at 5-percent-increased zero fuel weight and landing weight for all-cargo aircraft to provide supplies to people in isolated villages in Alaska. Grant, 4/22/2003, Exemption No. 4296K

Docket No.: FAA-2000-8186.

Petitioner: Sound Flight, Inc., dba Tronsdal Air.

Section of 14 CFR Affected: 14 CFR 135.203(a)(1).

Description of Relief Sought/Disposition: To permit Tronsdal Air to conduct operations under visual flight rules at an altitude below 500 feet, over water, outside controlled airspace. Grant, 4/22/2003, Exemption No. 6428C

Docket No.: FAA-2001-9494.

Petitioner: Cherry-Air, Inc.

Section of 14 CFR Affected: 14 CFR 135.143(c)(2).

Description of Relief Sought/Disposition: To permit Cherry-Air to operate certain aircraft under part 135 without a TSO-C112 (Mode S) transponder installed on those aircraft. Grant, 4/22/2003, Exemption No. 7036B

Docket No.: FAA-2001-10072.

Petitioner: Bay Air Charter, Inc.

Section of 14 CFR Affected: 14 CFR 135.143(C)(2).

Description of Relief Sought/Disposition: To permit Bay Air Charter, Inc. to operate certain aircraft under part 135 without a TSO-C112 (Mode S) transponder installed on those aircraft. Grant, 4/21/2003, Exemption No. 7592A

[FR Doc. 03-11230 Filed 5-6-03; 8:45 am]

BILLING CODE 4910-13-P